DEPARTMENT OF ENERGY

Federal Energy Regulatory Commission

[Docket Nos. CP18-512-000; CP18-513-000; PF15-26-000]

Notice of Application: Corpus Christi Liquefaction Stage III, LLC; Corpus Christi Liquefaction, LLC; Cheniere Corpus Christi Pipeline, LP

Take notice that on June 28, 2018, Corpus Christi Liquefaction Stage III, LLC (CCL Stage III) filed an application under section 3(a) of the Natural Gas Act (NGA) and parts 153 and 380 of the Commission's regulations for authorization to site, construct, and operate an expansion of the Corpus Christi Liquefaction Project, previously approved by the Commission in Docket No. CP12-507-000. The proposed expansion project consists of the addition of seven midscale liquefaction trains and one liquefied natural gas (LNG) storage tank (Stage 3 LNG Facilities). Corpus Christi Liquefaction, LLC (CCL) is currently constructing the liquefaction project, and would provide interconnects between the liquefaction project and the Stage 3 LNG Facilities, as well as control building modifications to accommodate the Stage 3 LNG Facilities.

In addition, pursuant to section 7(c) of the NGA, and in accordance with parts 157 and 380 of the Commission's regulations, Cheniere Corpus Christi Pipeline, LP (CCPL) filed an application for authorization to construct, own, operate, and maintain new interstate natural gas pipeline, compression, and related facilities in San Patricio County, Texas (Stage 3 Pipeline). The Stage 3 Pipeline, which would be approximately 21 miles long and 42 inches in diameter, would originate at CCPL's Sinton Compressor Station and generally run parallel to CCPL's existing 48-inch-diameter interstate natural gas pipeline (Corpus Christi Pipeline) previously authorized by the Commission in Docket No. CP12-508-000. This new pipeline would be capable of supplying feed gas to, and bringing natural gas from, the Stage 3 LNG Facilities. The Stage 3 Pipeline would be integrated and operated as part of the Corpus Christi Pipeline system, all as more fully set forth in the application which is on file with the Commission and open for public inspection.

On June 9, 2015, the Commission staff granted the applicants' request to utilize the National Environmental Policy Act (NEPA) Pre-Filing Process and assigned Docket No. PF15-26-000 to staff activities involving the project. Now, as of the filing of this application on June 28, 2018, the NEPA Pre-Filing Process for this project has ended. From this time forward, this proceeding will be conducted in Docket Nos. CP18-512-000 and CP18-513-000, as noted in the caption of this Notice.

The filing may also be viewed on the web at http://www.ferc.gov using the “eLibrary” link. Enter the docket number excluding the last three digits in the docket number field to access the document. For assistance, please contact FERC at FERCOnlineSupport@ferc.gov or toll free at (866) 208-3676, or TTY, (202) 502-8659.

Any questions regarding the proposed project should be directed to Karri Mahmoud, Cheniere Energy, Inc., 700 Milam Street, Suite 1900, Houston, Texas 77002, or by calling (713) 375-5000 or by email at Karri.Mahmoud@cheniere.com.

Pursuant to section 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the EA for this proposal. The filing of the EA in the Commission's public record for this proceeding or the issuance of a Notice of Schedule for Environmental Review will serve to notify federal and state agencies of the timing for the completion of all necessary reviews, and the subsequent need to complete all federal authorizations within 90 days of the date of issuance of the Commission staff's EA.

There are two ways to become involved in the Commission's review of this project. First, any person wishing to obtain legal status by becoming a party to the proceedings for this project should, on or before the comment date stated below, file with the Federal Energy Regulatory Commission, 888 First Street NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 7 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 5 copies of the protest or intervention to the Federal Energy Regulatory Commission, 888 First Street NE, Washington, DC 20426.

Comment Date: August 2, 2018.

Dated: July 12, 2018.
Kimberly D. Bose,
Secretary.

[FR Doc. 2018-15322 Filed 7-17-18; 8:45 am]

BILLING CODE 6717-01-P